DEPARTMENT OF THE INTERIOR

Bureau of Land Management

[AK-910-02-1410-PG]

Notice of Availability of the Draft East Alaska Resource Management Plan and Environmental Impact Statement

AGENCY: Bureau of Land Management, Interior.

ACTION: Notice of availability.

SUMMARY: In accordance with the National Environmental Policy Act (NEPA), the Federal Land Policy and Management Act (FLPMA), and Bureau of Land Management (BLM) management policies, a Draft East Alaska Resource Management Plan and Environmental Impact Statement (Draft EARMP/EIS) has been prepared for public lands and resources administered by the Bureau of Land Management's Glennallen Field Office. The public is invited to review and comment on the range and adequacy of the draft alternatives and associated environmental effects. For comments to be most helpful, they should relate to specific concerns or conflicts that are within the legal responsibilities of the BLM and can be resolved in this planning process. The Draft EARMP/EIS will provide the management guidance for resource decisions on 7.1 million acres of BLM-administered lands in East Alaska. The EARMP/EIS will replace the Southcentral Management Framework Plan approved in 1980.

ADDRESSES: Written comments should be addressed or hand delivered to the BLM Glennallen Field Office, EARMP, P.O. Box 147, Mile 186.5 Glenn Highway, Glennallen, AK 99588. Comments can also be sent via e-mail to ak_earmp@ak.blm.gov or can be submitted at the project Web site: http://www.glennallen.ak.blm.gov/landplan/index.html. The Draft EARMP/EIS is also available for download on the project Web site. To request a CD or hard copy of the document or to be included on the mailing list, contact Tammy Larzelere, tammy_larzelere@ak.blm.gov, or via mail/phone at the above address. Comments, including names and street addresses of respondents, will be available to the Glennallen Field Office during regular business hours 7:30 a.m. to 4:30 p.m., Monday through Friday, except holidays, and may be published as part of the Proposed Resource Management Plan/Final Environmental Impact Statement. Individual respondents may request confidentiality. If you wish to withhold your name or street address from public review or from disclosure under the Freedom of Information Act, you must state this prominently at the beginning of your written comments. Such requests will be honored to the extent allowed by the law. All submissions from organizations and business, and from individuals identifying themselves as representatives or officials or organizations or businesses, will be available for public inspection in their entirety. Section 810 of the Alaska National Lands Conservation Act requires the BLM to evaluate the effects of the alternative plans presented in this RMP/EIS on subsistence activities in the planning area, and to hold public hearings if it finds that any alternative might significantly restrict subsistence activities. Appendix V of the document indicates that Alternative B may significantly restrict subsistence; therefore, the BLM is holding a public hearing in conjunction with the public meetings discussed below.

DATES: Comments on the Draft EARMP/EIS will be accepted for 90 days following the date the Environmental Protection Agency publishes this Notice of Availability in the Federal Register. Comments on the Draft EARMP/EIS must be received on or before the end of the comment period at one of the addresses listed above. Public meetings will be held at Fairbanks, Glennallen, Anchorage, Delta Junction, and Chistochina. Hearings will be held in Glennallen, Delta Junction, and Chistochina in conjunction with the public meeting. Meetings, hearings, and any other public involvement activities will be announced at least 15 days in advance through public notices, media news releases, and/or mailings.

FOR FURTHER INFORMATION CONTACT: Bruce Rogers (bruce_rogers@ak.blm.gov) or Tammy Larzelere (tammy_larzelere@ak.blm.gov) at (907) 822-3217.

SUPPLEMENTARY INFORMATION: The East Alaska RMP planning area covers 7.1 million acres of BLM-administered lands. The Draft EARMP/EIS focuses on the principles of multiple use and sustained yield as prescribed by Section 202 of the FLPMA. The Draft EARMP/EIS considers and analyzes four alternatives, including a No Action and a Preferred Alternative. The alternatives provide for an array of variable levels of commodity production and resource protection and restoration. The alternatives were developed based on extensive public scoping and involvement.

There are seven main issues addressed through this planning process. Issue 1, Travel Management, addresses management of access, roads, and the use of off-highway vehicles for various purposes, including recreation, commercial uses, subsistence activities, and the general enjoyment of public lands while protecting natural and cultural resources. Issue 2, Recreation, examines how recreation should be managed to provide a diversity of experiences on BLM-managed lands. The document analyzes what measures are necessary to ensure that a diversity of recreational opportunities is maintained and what level of commercial recreational use is appropriate to maintain a diversity of recreational opportunities. Issue 3, Special Resource Values, focuses on those unique, special values located within the planning area that were identified by resource specialists and the public, and includes discussions on wildlife, fisheries, soil, water, air, and vegetation. Issue 4, Lands and Realty, addresses the need to determine the appropriate mix of lands and realty actions needed to provide a balance between land use and resource protection. Special attention is paid to the Slana Settlement area, and the establishment of conditions that would make the area available for disposal while considering the effects of disposal on the social and environmental conditions of the area. Issue 5, Vegetation Management, examines management to provide for forest health, personal and commercial wood products, and fish and wildlife habitat. The role of fire is also explored. Issue 6, Leasable and Locatable Minerals, addresses the need to determine which areas should be made available for mineral exploration and development. Issue 7, Subsistence/Social and Economic Conditions, examines the need to maintain and protect subsistence opportunities and resources, as well as how the management actions, guidelines, and allowable uses described under the other issues will affect subsistence opportunities and resources. Social and economic effects are also addressed as part of this discussion.

The public involvement and collaboration process implemented for this effort included 30 public scoping meetings, 17 alternative development meetings, and meetings with Native and Village Corporations. The State of Alaska is participating in the planning effort as an informal cooperator.

After comments on the Draft EARMP/EIS are reviewed and any adjustments to the document are made, a Proposed RMP and Final Environmental Impact Statement are expected to be available in the fall of 2005.

Henri R. Bisson,
State Director.

[FR Doc. 05-8540 Filed 4-28-05; 8:45 am]

BILLING CODE 4310-JA-P